DEPARTMENT OF THE INTERIOR

National Park Service

Environmental Statements; Record of Decision: Pictured Rocks National Lakeshore, MI

AGENCY: National Park Service, Department of the Interior.

ACTION: Notice of Availability of a Record of Decision on the Final Environmental Impact Statement for the General Management Plan/Wilderness Study, Pictured Rocks National Lakeshore.

SUMMARY: Pursuant to section 102(2)(C) of the National Environmental Policy Act of 1969, Public Law 91-190, 83 Stat. 852, 853, as codified as amended at 42 U.S.C. 4332(2)(C), the National Park Service (NPS) announces the availability of the Record of Decision (ROD) for the General Management Plan/Wilderness Study (GMP/WS), Pictured Rocks National Lakeshore (PIRO), Michigan. The Midwest Regional Director has approved the ROD for the GMP/WS. Specifically, the NPS has selected the preferred alternative as described in the Final General Management/Wilderness Study/Environmental Impact Statement (FGMP/WS/EIS). Under the selected action, the NPS will provide additional and more convenient access to significant national lakeshore features, thus expanding opportunities for visitor use in the national lakeshore. Natural ecological processes will be allowed to occur, and restoration programs will be initiated where necessary. Federal lands in the Beaver Basin area in the national lakeshore (about 16 percent of the lakeshore) will be proposed for designation as wilderness. Vehicular access to Little Beaver Lake campground will remain, however structures within the proposed wilderness will be removed. Other roads in Beaver Basin will be closed and converted to trails or allowed to revert to natural vegetation. To accommodate possible increased use and to increase ease of access in the portion of the national lakeshore not proposed for wilderness, certain roads will be upgraded (upgrading portions of County Road H-58 will be recommended), and a drive-in campground in the Miners area and a boat-in campsite on Grand Sable Lake will be added. Operational facilities will be consolidated at the ends of the national lakeshore for efficiency. The selected action and four other alternatives were analyzed in the draft and final EIS. The full range of foreseeable environmental consequences was assessed.

Among the alternatives the NPS considered, the selected action best protects PIRO's natural and cultural resources, and its core wilderness resource, while also providing a range of quality recreational and educational experiences. It also meets NPS goals for managing the lakeshore, and meets national environmental policy goals. The preferred alternative will not result in the impairment of resources and values.

The ROD includes a statement of the decision made, synopses of other alternatives considered, the basis for the decision, the rationale for why the selected action is the environmentally preferred alternative, a finding of no impairment of park resources and values, and an overview of public involvement in the decision-making process.

FOR FURTHER INFORMATION CONTACT: Karen Gustin, Superintendent, Pictured Rocks National Lakeshore, P.O. Box 40, N8391 Sand Point Rd., Munising, MI 49862-0040, or by calling 906-387-2607. The official responsible for this decision is Ernest Quintana, the Regional Director, Midwest Region.

SUPPLEMENTARY INFORMATION: Copies of the ROD may be obtained from the contact listed above or may be viewed online at http://www.nps.gov/piro.htm. With the concurrence of the NPS Director, the wilderness proposal will be sent to the Assistant Secretary for Fish, Wildlife and Parks and the Secretary of the Interior, who may revise or approve the proposal. The Secretary may then forward a wilderness recommendation to the President, who in turn may approve or revise the recommendation and then transmit the recommendation to Congress for consideration.

Approved: November 23, 2004.
Ernest Quintana,
Regional Director.

[FR Doc. 04-28297 Filed 12-27-04; 8:45 am]

BILLING CODE 4310-52-P